FEDERAL ELECTION COMMISSION

Sunshine Act Meeting

FEDERAL REGISTER CITATION NOTICE OF PREVIOUS ANNOUNCEMENT: 87 FR 69271.

PREVIOUSLY ANNOUNCED TIME, DATE, AND PLACE OF THE MEETING: Thursday, November 17, 2022 at 10:00 a.m.

Hybrid meeting: 1050 First Street NE, Washington, DC (12th Floor) and virtual.

CHANGES IN THE MEETING: The Open Meeting of Thursday, November 17, 2022 was canceled.

CONTACT PERSON FOR MORE INFORMATION: Judith Ingram, Press Officer, Telephone: (202) 694-1220.

(Authority: Government in the Sunshine Act, 5 U.S.C. 552b)

Laura E. Sinram,
Secretary and Clerk of the Commission.

[FR Doc. 2022-25536 Filed 11-18-22; 11:15 am]

BILLING CODE 6715-01-P